SECURITIES AND EXCHANGE COMMISSION

[Release No. 34-45276; File No. SR-NASD-2002-06]

Self-Regulatory Organizations; Notice of Filing and Immediate Effectiveness of Proposed Rule Change by the National Association of Securities Dealers, Inc. to Extend the Manning Pilot on the OTCBB

Correction

In notice document 02-1425 beginning on page 2936 in the issue of Tuesday, January 22, 2002, make the following correction:

On page 2936, the heading is corrected to read as set forth above.

[FR Doc. C2-1425 Filed 1-25-02; 8:45 am]

BILLING CODE 1505-01-D